DEPARTMENT OF TRANSPORTATION

Research and Special Programs Administration

49 CFR Part 195

[Docket RSPA-99-6355; Amdt. 195-70]

RIN 2137-AD45

Pipeline Safety: Pipeline Integrity Management in High Consequence Areas (Hazardous Liquid Operators With 500 or More Miles of Pipelines)

AGENCY: Research and Special Programs Administration (RSPA), Department of Transportation.

ACTION: Final rule; delay of effective date.

SUMMARY: In accordance with the memorandum of January 20, 2001, from the Assistant to the President and Chief of Staff, titled “Regulatory Review Plan,” published in the Federal Register on January 24, 2001, this action temporarily delays for 60 days the effective date of the rule titled “Pipeline Safety: Pipeline Integrity Management in High Consequence Areas (Hazardous Liquid Operators with 500 or More Miles of Pipelines),” published in the Federal Register on December 1, 2000, 65 FR 75378. That rule requires operators of hazardous liquid pipelines to establish and implement plans to assess the integrity of pipeline in areas in which a failure could impact certain populated and environmentally sensitive areas.

DATES: The effective date of the final rule is delayed for 60 days, from March 31, 2001, to a new effective date of May 29, 2001.

FOR FURTHER INFORMATION CONTACT: Mike Israni, (202) 366-4571, or by e-mail: mike.israni@rspa.dot.gov, regarding the subject matter of this final rule, or the Dockets Facility for copies of this final rule or other material in the docket. All materials in this docket may be accessed electronically at http://dms.dot.gov.

SUPPLEMENTARY INFORMATION: To the extent that 5 U.S.C. section 553 applies to this action, it is exempt from notice and comment because it constitutes a rule of procedure under 5 U.S.C. section 553(b)(A). Alternatively, the RSPA's implementation of this action without opportunity for public comment, effective immediately upon publication today in the Federal Register, is based on the good cause exceptions in 5 U.S.C. section 553(b)(B) and 553(d)(3). Seeking public comment is impracticable, unnecessary and contrary to the public interest. The temporary 60-day delay in effective date is necessary to give Department officials the opportunity for further review and consideration of new regulations, consistent with the Assistant to the President's memorandum of January 20, 2001. Given the imminence of the effective date, seeking prior public comment on this temporary delay would have been impractical, as well as contrary to the public interest in the orderly promulgation and implementation of regulations. The imminence of the effective date is also good cause for making this action effective immediately upon publication.

Issued in Washington, DC on January 31, 2001.
Edward A. Brigham,
Acting Deputy Administrator.

[FR Doc. 01-3215 Filed 2-7-01; 8:45 am]

BILLING CODE 4910-60-P